DEPARTMENT OF DEFENSE

Defense Acquisition Regulations System

48 CFR Part 204

Defense Federal Acquisition Regulation Supplement; Part 204, Administrative Matters

AGENCY: Defense Acquisition Regulations System, Department of Defense (DoD).

ACTION: Final rule; Technical amendment.

SUMMARY: DoD is issuing this technical amendment to direct contracting officers to the location of procedures relating to obtaining an account in the Electronic Document Access system. Further, current business systems across DoD have each developed methods of indexing contracts independently leading to data integrity problems between data sources. This technical amendment also provides the location of guidance on a uniform contract indexing methodology across DoD.

DATES: Effective Date: September 27, 2010.

FOR FURTHER INFORMATION CONTACT: Ms. Ynette R. Shelkin, Defense Acquisition Regulations System, OUSD (AT&L) DPAP (DARS), Room 3B855, 3060 Defense Pentagon, Washington, DC 20301-3060. Telephone 703-602-8384; facsimile 703-602-0350.

SUPPLEMENTARY INFORMATION: Current business systems across DoD have each developed methods of indexing contracts independently leading to data integrity problems between data sources. Defense Procurement and Acquisition Policy letter dated July 8, 2010, subject: Contract Indexing Standard, provides detailed guidance on mapping procurement instrument identification and supplementary procurement instrument identification numbers stored in the Electronic Document Access system to data elements reported in the Federal Procurement Data System. This memorandum aims to eliminate this confusion by establishing a uniform contract indexing methodology across DoD. This technical amendment adds language to the Defense Federal Acquisition Regulation directing contracting officers to the location of this memorandum and its detailed guidance and of procedures relating to obtaining an account in the Electronic Document Access system.

List of Subjects in 48 CFR Part 204

Government procurement.

Ynette R. Shelkin,
Editor, Defense Acquisition Regulations System.

Therefore 48 CFR part 204 is amended as follows:

PART 204—ADMINISTRATIVE MATTERS

1. The authority citation for 48 CFR part 204 continues to read as follows:

Authority: 41 U.S.C. 421 and 48 CFR chapter 1.

2. Add section 204.270 to read as follows:

204.270 Electronic Document Access.

Follow the procedures at PGI 204.270 relating to obtaining an account in the Electronic Document Access system.

3. Add section 204.7006 to read as follows:

204.7006 Cross reference to Federal Procurement Data System.

Detailed guidance on mapping PII and supplementary PII numbers stored in the Electronic Document Access system to data elements reported in the Federal Procurement Data System can be found in PGI 204.7006.

[FR Doc. 2010-23665 Filed 9-24-10; 8:45 am]

BILLING CODE 5001-08-P